DEPARTMENT OF COMMERCE

Foreign-Trade Zones Board

[B-30-2016]

Foreign-Trade Zone (FTZ) 125—South Bend, Indiana; Notification of Proposed Production Activity; LionsHead Specialty Tire & Wheel, LLC (Wheel Assemblies for Specialty Applications); Goshen, Indiana

LionsHead Specialty Tire & Wheel, LLC (LionsHead) submitted a notification of proposed production activity to the FTZ Board for its facility in Goshen, Indiana. The notification conforming to the requirements of the regulations of the FTZ Board (15 CFR 400.22) was received on May 3, 2016.

A separate application for usage-driven site designation at the LionsHead facility will be submitted and will be processed under Section 400.38 of the FTZ Board's regulations. The facility is used to produce wheel assemblies for specialty applications, including trailers and golf carts. Pursuant to 15 CFR 400.14(b), FTZ activity would be limited to the specific foreign-status materials and components and specific finished products described in the submitted notification (as described below) and subsequently authorized by the FTZ Board.

Production under FTZ procedures could exempt LionsHead from customs duty payments on the foreign-status components used in export production. On its domestic sales, LionsHead would be able to choose the duty rates during customs entry procedures that apply to wheel assemblies for non-agricultural trailers, golf carts, farm feed tenders, grain wagons, all-terrain vehicles (ATVs), recreational vehicles (RVs), handling equipment, forklifts and other types of industrial lifting equipment (duty rates-free to 3.1%) for the foreign-status inputs noted below. Customs duties also could possibly be deferred or reduced on foreign-status production equipment.

The components sourced from abroad include: Radial and bias-ply tires for agricultural machinery, forklifts, ATVs, golf carts, lawn and garden equipment, and passenger cars; specialty tire (ST)-rated radial and bias-ply tires for trailers; steel and aluminum wheels for agricultural machinery, trailers, golf carts, ATVs, forklifts, and lawn and garden equipment; and, steel and aluminum wheel parts (duty rates range from free to 4%).

Public comment is invited from interested parties. Submissions shall be addressed to the FTZ Board's Executive Secretary at the address below. The closing period for their receipt is June 21, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: May 5, 2016.
Andrew McGilvray,
Executive Secretary.

[FR Doc. 2016-11236 Filed 5-11-16; 8:45 am]

BILLING CODE 3510-DS-P